DEPARTMENT OF HOMELAND SECURITY

[Docket ID FEMA-2014-0022]

Technical Mapping Advisory Council; Meeting

AGENCY: Federal Emergency Management Agency, DHS.

ACTION: Committee Management; Notice of Federal Advisory Committee Meeting.

SUMMARY: The Federal Emergency Management Agency (FEMA) Technical Mapping Advisory Council (TMAC) will hold a virtual meeting on Monday July 27th, 2020 and Tuesday July 28th, 2020. The meeting will be open to the public via a Zoom Video Communications link and conference line.

DATES: The TMAC will meet on Monday July 27th, 2020 and Tuesday July 28th, 2020 from 10:00 a.m. to 4:00 p.m. Eastern Time (ET). Please note that the meeting will close early if the TMAC has completed its business.

ADDRESSES: The meeting will be held virtually using Zoom Video Communications, Meeting Identification (ID) 16195624614 (https://fema.zoomgov.com/j/16195624614) to share meeting visuals and audio. Members of the public who wish to attend the virtual meeting must register in advance by sending an email to FEMA-TMAC@fema.dhs.gov (Attention: Michael Nakagaki) by 5:00 p.m. ET on Friday July 24th, 2020. For information on services for individuals with disabilities or to request special assistance at the meeting, contact the person listed below as soon as possible.

To facilitate public participation, members of the public are invited to provide written comments on the issues to be considered by the TMAC, as listed in the SUPPLEMENTARY INFORMATION section below. Associated meeting materials will be available at www.fema.gov/TMAC for review by Friday July 24th, 2020. Written comments to be considered by the committee at the time of the meeting must be submitted and received by Friday July 24th, 2020, identified by Docket ID FEMA-2014-0022, and submitted by one of the following methods:

• Federal eRulemaking Portal: http://www.regulations.gov. Follow the instructions for submitting comments.

• Email: Address the email TO: FEMA-RULES@fema.dhs.gov and CC: FEMA-TMAC@fema.dhs.gov. Include the docket number in the subject line of the message. Include name and contact information in the body of the email.

• Mail: Regulatory Affairs Division, Office of Chief Counsel, FEMA, 500 C Street SW, Room 8NE, Washington, DC 20472-3100.

Instructions: All submissions received must include the words “Federal Emergency Management Agency” and the docket number for this action. Comments received will be posted without alteration at http://www.regulations.gov, including any personal information provided.

Docket: For docket access to read background documents or comments received by the TMAC, go to http://www.regulations.gov and search for the Docket ID FEMA-2014-0022.

A public comment period will be held on Monday July 27th, 2020 from 12:00 p.m. to 12:30 p.m. ET and Tuesday July 28th, 2020 from 12:00 p.m. to 12:30 p.m. ET. Speakers have been asked to provide comment on topics related to the 2020 Tasking Memo that was presented to the TMAC by FEMA. In 2020 FEMA has tasked the TMAC to work with stakeholders to identify best practices that can be incorporated into a future flood hazard and flood risk identification program and to provide a framework for FEMA to transition to the envisioned flood hazard and flood risk identification program. Speakers are requested to limit their comments to no more than three minutes. The public comment period will not exceed 30 minutes. Please note that the public comment period may end before the time indicated, following the last call for comments. Contact the individual listed below to register as a speaker by close of business on Friday July 24th, 2020.

FOR FURTHER INFORMATION CONTACT: Michael Nakagaki, Designated Federal Officer for the TMAC, FEMA, 400 C Street SW, Washington, DC 20024, telephone (202) 212-2148, and email michael.nakagaki@fema.dhs.gov. The TMAC website is: http://www.fema.gov/TMAC.

SUPPLEMENTARY INFORMATION: Notice of this meeting is given under the Federal Advisory Committee Act, 5 U.S.C. App.

In accordance with the Biggert-Waters Flood Insurance Reform Act of 2012, the TMAC makes recommendations to the FEMA Administrator on: (1) How to improve, in a cost-effective manner, the (a) accuracy, general quality, ease of use, and distribution and dissemination of flood insurance rate maps and risk data; and (b) performance metrics and milestones required to effectively and efficiently map flood risk areas in the United States; (2) mapping standards and guidelines for (a) flood insurance rate maps, and (b) data accuracy, data quality, data currency, and data eligibility; (3) how to maintain, on an ongoing basis, flood insurance rate maps and flood risk identification; (4) procedures for delegating mapping activities to State and local mapping partners; and (5) (a) methods for improving interagency and intergovernmental coordination on flood mapping and flood risk determination, and (b) a funding strategy to leverage and coordinate budgets and expenditures across Federal agencies. Furthermore, the TMAC is required to submit an annual report to the FEMA Administrator that contains: (1) A description of the activities of the Council; (2) an evaluation of the status and performance of flood insurance rate maps and mapping activities to revise and update Flood Insurance Rate Maps; and (3) a summary of recommendations made by the Council to the FEMA Administrator.

Agenda: The purpose of this meeting is for the TMAC members to provide briefings on the work of the TMAC subcommittees, review written sections of the report, discuss and vote on a proposed vision statement for the mapping program, and receive presentations from subject matter experts. Any related materials will be posted to the FEMA TMAC site prior to the meeting to provide the public an opportunity to review the materials. The full agenda and related meeting materials will be posted for review by Friday July 24th, 2020 at http://www.fema.gov/TMAC.

Michael M. Grimm,
Assistant Administrator for Risk Management, Federal Emergency Management Agency.

[FR Doc. 2020-14311 Filed 7-1-20; 8:45 am]

BILLING CODE 9110-12-P